DEPARTMENT OF LABOR

Vacancy Posting for a Member of the Employees' Compensation Appeals Board

Summary of Duties: A member of the Employees' Compensation Appeals Board serves in all matters of the board as assigned, including policy decisions and technology proposals. The incumbent participates in rendering decisions of the Board. Each decision is set forth in a written opinion which sets forth the basis of the decision. The Member of the Board analyzes and evaluates the legal and factual aspects of each case and conducts necessary research. Research includes examination of the law, regulation and procedures, prior Board decisions and Workers' Compensation cases decided under other jurisdiction or general statutory or common law.

Appointment Type: Excepted—Indefinite.

Qualifications: The applicant should be well versed in the Federal Workers' Compensation programs to include the processes, adjudication of claims and the appeals process as well as having the ability to interpret regulations and come to a consensus to determine an overall appeals determination with members of board.

To Be Considered: Applicants must provide a detailed resume containing a demonstrated ability to perform as a Member of the Board.

Closing Date: Resumes must be submitted (postmarked, if sending by mail; submitted electronically; or received, if hand-delivered) by 11:59 p.m. EDT on September 15, 2018. Resumes must be submitted to: sylvia.john@dol.gov or mail to: U.S. Department of Labor, 200 Constitution Avenue NW, ATTN: Office of Executive Resources, Room N2495, Washington, DC 20210, phone: 74-365-6851. This is not a toll-free number.

Dated: August 6, 2018.
Bryan Slater,
Assistant Secretary for Administration & Management.

[FR Doc. 2018-17374 Filed 8-10-18; 8:45 am]

BILLING CODE 4510-31-P